DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its fifty-second meeting.

Name: National Advisory Committee on Rural Health and Human Services.

Dates and Times: January 29, 2006, 2 p.m.-5:15 p.m.; January 30, 2006, 8:45 a.m.-4:45 p.m.; January 31, 2006, 8:30 a.m.-11:15 a.m.

Place: Jurys Washington Hotel, 1500 New Hampshire Avenue, NW., Washington, DC 20036, Phone: 202-483-6000.

Status: The meeting will be open to the public.

Purpose: The National Advisory Committee on Rural Health and Human Services provides advice and recommendations to the Secretary with respect to the delivery, research, development and administration of health and human services in rural areas.

Agenda: Sunday afternoon, January 29, at 2 p.m., the Chairperson, the Honorable David Beasley, will open the meeting and welcome the Committee. The first session will open with a discussion of the Committee business and a review of the 2006 report to the Secretary. This will be followed by a session on the role of HHS in connecting the three 2007 report topics by Elizabeth M. Duke, Administrator of the Health Resources and Services Administration. Jack Kalavritinos, HHS Office of Intergovernmental Affairs has also been invited to speak on these three topics. The three topics for the 2007 report are as follows: Medicare Advantage, Substance Abuse and Head Start. The final two sessions of the day will be an overview of Medicare Advantage in rural communities and an overview of substance abuse in rural communities. The Sunday meeting will close at 5:15 p.m.

Monday morning, January 30, at 8:45 a.m. the meeting will begin with an overview of Head Start in rural communities. The next three sessions will look at the three topics from a research perspective. Speakers will include Keith Mueller from the Rural Policy Research Institute; Peggy Halpern and Ann McCormick from ASPE (Assistant Secretary for Planning and Evaluation, HHS); David Hartley with Maine Rural Health Research Center; and Maria Woolverton, Office of Planning, Research and Evaluation at the Administration for Children and Families. The final two sessions of the day will consist of an update on Washington by the National Rural Health Association and the appointment of Subcommittees for the 2007 report. The Monday meeting will close at 4:45 p.m.

The final session will be convened Tuesday morning, January 31, at 8:30 a.m. The Committee will break into Subcommittee format to discuss the chapter outlines and timelines. The meeting will conclude with a discussion of the June meeting. The meeting will be adjourned at 11:15 a.m.

FOR FURTHER INFORMATION CONTACT: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: December 29, 2005.
Tina M. Cheatham,
Director, Division of Policy Review and Coordination.

[FR Doc. E6-43 Filed 1-6-06; 8:45 am]

BILLING CODE 4165-15-P